DEPARTMENT OF AGRICULTURE

Submission for OMB Review; Comment Request

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by November 15, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Office of Procurement and Property Management

Title: Outreach and Assistance to Socially Disadvantaged Farmers and Ranchers and Veteran Farmers and Ranchers Program (2501 Program) Application and Performance Reporting.

OMB Control Number: 0503-NEW.

Summary of Collection: Under 7 U.S.C. 6934, the Office of Partnerships and Public Engagement (OPPE) is directed to administer section 2501 of the Food, Agriculture, Conservation, and Trade Act of 1990 (7 U.S.C. 2279, the Act). Section 2501 directs the Secretary of Agriculture to carry out an outreach program to encourage and assist socially disadvantaged farmers and ranchers, veteran farmers and ranchers, and beginning farmers and ranchers in owning and operating farms and ranches, and in participating equitably in the full range of agricultural programs offered by the Department. In order to do so, the Secretary may make grants to eligible entities that have demonstrated an ability to provide such outreach and technical assistance. Part A of this ICR addresses the application process for potential grantees to submit applications for funding to the Secretary for the purposes of fulfilling the requirements of section 2501 of the Act.

Additionally, the Secretary is directed by section 2501 of the Act to report certain data to Congress on an annual basis. Part B of this request addresses the creation of a web-based system to collect information from grantees that will partially fulfill this requirement.

Part C of this request addresses the creation of a survey tool that will allow OPPE to engage directly with program participants from grantee programs in order to collect the data needed to respond fully to the Act's requirements for Congressional Reporting.

Need and Use of the Information: Applicant organizations applying for funding under the 2501 grant program will be asked to complete a standard grants.gov application package. The package includes: Standard Form (SF) 424; Application for Federal Assistance; Project/Performance Site Location(s); Project Abstract Summary; Project Narrative; Standard Form (SF) 424A; Budget Information—Non-Construction Programs; Budget Narrative; Key Contacts (list names of all key personnel expected to work on the project); Grants.gov Lobbying Form; Resumes of all key personnel working on the project; and related documentation (e.g., Articles of Incorporation for all nonprofit organizations, 501(c)(3) status documentation). This information will be solicited from grantee organizations, which may include: Institutes of Higher Education, community-based nonprofit 501(c)(3) organizations, and Tribal entities. Recipient organizations will be required to submit progress reports on their activities on an annual basis, except in cases where OPPE deems it necessary to receive reports more frequently, as well as a final performance report summarizing their activities and performance at the end of the award period. Reports also contain financial management information regarding the way OPPE funding was spent by the organization. OPPE plans to collect this information through a web-based portal, which is intended to simplify the collection of this information for both the grantees and the OPPE personnel who process that information. Participants in programming by recipient organizations will be asked to complete post-activity surveys regarding their demographics, participation, and outcomes. This survey will be administered by grantee organizations through a survey platform created and managed by OPPE, which is intended to relieve the recipient organization of the burden of creating a collection mechanism, and also to simplify the collection and collation of this data.

Description of Respondents: Local, State and Tribal Governments.

Number of Respondents: 5,120.

Frequency of Responses: Annually; Semi-annually.

Total Burden Hours: 34,800.

Levi S. Harrell,
Departmental Information Collection Clearance Officer.

[FR Doc. 2024-23826 Filed 10-15-24; 8:45 am]

BILLING CODE 3412-88-P